ENVIRONMENTAL PROTECTION AGENCY

[EPA-HQ-OPPT-2015-0435; FRL-9954-31-OEI]

Information Collection Request Submitted to OMB for Review and Approval; Comment Request; Notification of Chemical Exports—TSCA Section 12(b)

AGENCY: Environmental Protection Agency (EPA).

ACTION: Notice.

SUMMARY: EPA has submitted the following information collection request (ICR) to the Office of Management and Budget (OMB) for review and approval in accordance with the Paperwork Reduction Act (PRA): “Notification of Chemical Exports—TSCA Section 12(b)” and identified by EPA ICR No. 0795.15 and OMB Control No. 2070-0030. The ICR, which is available in the docket along with other related materials, provides a detailed explanation of the collection activities and the burden estimate that is only briefly summarized in this document. EPA has addressed the comments received in response to the previously provided public review opportunity issued in the Federal Register on October 28, 2015 (80 FR 66000). With this submission, EPA is providing an additional 30 days for public review.

DATES: Comments must be received on or before December 19, 2016.

ADDRESSES: Submit your comments, identified by docket identification (ID) number EPA-HQ-OPPT-2015-0435, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Colby Lintner, Environmental Assistance Division (7408M), Office of Pollution Prevention and Toxics, Environmental Protection Agency, 1200 Pennsylvania Ave. NW., Washington, DC 20460-0001; telephone number: (202) 554-1404; email address: TSCA-Hotline@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR Status: OMB approval for this ICR expired on September 1, 2016, due to administrative error. This action is a request to reinstate OMB approval for the information collection activities outlined in this document.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: Section 12(b) of the Toxic Substances Control Act (TSCA) requires any person who exports or intends to export a chemical substance or mixture that is regulated under TSCA sections 4, 5, 6 and/or 7 to notify EPA of such export or intent to export. This requirement is described in more detail in the Code of Federal Regulations (CFR) at 40 CFR part 707, subpart D. Upon receipt of notification, EPA advises the government of the importing country of the U.S. regulatory action that required the notification with respect to that substance. EPA uses the information obtained from the submitter via this collection to advise the government of the importing country. This information collection addresses the burden associated with industry reporting of export notifications.

EPA will disclose information that is covered by a claim of confidentiality only to the extent permitted by, and in accordance with, the procedures in TSCA section 14 and 40 CFR part 2.

Respondents/Affected Entities: Entities potentially affected by this ICR are companies that export chemical substances or mixtures from the United States to foreign countries.

Respondent's Obligation To Respond: Responses to the collection of information are mandatory (see 40 CFR part 707, subpart D). Respondents may claim all or part of a notice confidential.

Estimated Total Number of Potential Respondents: 240.

Frequency of Response: On occasion.

Estimated Total Burden: 4,032 hours (per year). Burden is defined at 5 CFR 1320.3(b).

Estimated Total Costs: $278,118 (per year), includes no annualized capital investment or maintenance and operational costs.

Changes in the Estimates: There is an increase of seven hours in the total estimated respondent burden compared with that identified in the ICR previously approved by OMB. This increase reflects EPA's correction of arithmetic errors in the previous submission. This change is an adjustment.

Authority: 44 U.S.C. 3501 et seq.

Courtney Kerwin,
Director, Regulatory Support Division.

[FR Doc. 2016-27580 Filed 11-16-16; 8:45 am]

BILLING CODE 6560-50-P